DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 21, 2003.

Interested persons are invited to submit written comments regarding the subject matter of the investigations to the Director, Division of Trade Adjustment Assistance, at the address shown below, not later than July 21, 2003.

The petitions filed in this case are available for inspection at the Office of the Director, Division of Trade Adjustment Assistance, Employment and Training Administration, U.S. Department of Labor, Room C-5311, 200 Constitution Avenue, NW., Washington, DC 20210.

Signed at Washington, DC, this 23rd day of June, 2003.
Timothy Sullivan,
Director, Division of Trade Adjustment Assistance.

[Petitions Instituted Between 06/16/2003 and 06/20/2003]
TA-W | Subject firm (petitioners) | Location | Date of institution | Date of petition
52,037 | Swan Finishing Co., Inc. (Comp) | Fall River, MA | 06/16/2003 | 06/13/2003
52,038 | Sonoco Products Company (Comp) | Granite Falls, NC | 06/16/2003 | 06/13/2003
52,039 | Hereaus Electro-Nite Co. (IBT) | Philadelphia, PA | 06/16/2003 | 06/13/2003
52,040 | Flynt Fabrics, Inc. (Comp) | Graham, NC | 06/16/2003 | 05/27/2003
52,041 | St. Mary's Trigen Biopower (Wkrs) | St. Mary's GA | 06/16/2003 | 06/10/2003
52,042 | Wheatland Tube Co. (Wkrs) | Sharon, PA | 06/16/2003 | 06/10/2003
52,043 | Congoleum Corp. (NJ) | Mercerville, NJ | 06/16/2003 | 06/13/2003
52,044 | Spectrum Dyed Yarns, Inc. (Comp) | Kings Mountain, NC | 06/16/2003 | 06/12/2003
52,045 | Agere Systems (IBEW) | Reading, PA | 06/16/2003 | 06/10/2003
52,046 | Sauer-Danfoss (UAW) | Sturtevant, WI | 06/16/2003 | 06/10/2003
52,047 | CEMCO (CA) | Willits, CA | 06/16/2003 | 05/28/2003
52,048 | Hamilton Sundstrand (Comp) | Long Beach, CA | 06/16/2003 | 06/06/2003
52,049 | American Leather, LP (Comp) | Dallas, TX | 06/17/2003 | 06/12/2003
52,050 | Merrill Corporation (Wkrs) | St. Paul, MN | 06/17/2003 | 06/10/2003
52,051 | Leviton Manufacturing (Comp) | Morgantown, NC | 06/17/2003 | 06/17/2003
52,052 | Corning Cable Systems (Wkrs) | Hickory, NC | 06/17/2003 | 06/02/2003
52,053 | Whispering Pines Sprotswear (Comp) | Pageland, SC | 06/17/2003 | 04/08/2003
52,054 | Coinco (Wkrs) | Mountain View, MO | 06/17/2003 | 06/13/2003
52,055 | Advanced Machining (OR) | Newberg, OR | 06/17/2003 | 06/16/2003
52,056 | Dynamic Metal Forming, Inc. (IW) | Scottdale, PA | 06/17/2003 | 05/05/2003
52,057 | Kasco Corporation (Wkrs) | St. Louis, MO | 06/17/2003 | 06/13/2003
52,058 | Smith Enterprises, Inc. (Comp) | Rock Hill, SC | 06/17/2003 | 06/13/2003
52,059 | Brown Foundry, Inc. (VT) | Swanton, VT | 06/17/2003 | 06/16/2003
52,060 | Amital Spinning Corporation (Comp) | New Bern, NC | 06/17/2003 | 06/17/2003
52,061 | Fishing Vessel (F/V) Alta E (Comp) | Point Baker, AK | 06/17/2003 | 06/06/2003
52,062 | F/V Juanderer (Comp) | Elfin Cave, AK | 06/17/2003 | 06/12/2003
52.063 | F/V Elvagene (Comp) | Grays River, WA | 06/17/2003 | 05/28/2003
52,064 | Fishing Vessel (F/V) Tuckahoe (Comp) | Ward Cove, AK | 06/17/2003 | 05/26/2003
52,065 | F/V Madame Ching and Village Idiot (Comp) | Fair Banks, AK | 06/17/2003 | 06/12/2003
52,066 | SWR Sound Corporation (Wkrs) | Sun Valley, CA | 06/18/2003 | 06/05/2003
52,067 | Pall Life Services (Wkrs) | Ann Arbor, MI | 06/18/2003 | 04/15/2003
52,068 | Alice Manufacturing Company (Comp) | Easley, SC | 06/18/2003 | 06/10/2003
52,069 | MKS Instruments (Comp) | Colorado Spring, CO | 06/18/2003 | 06/17/2003
52,070 | Master Gear (Wkrs) | South Beloit, IL | 06/18/2003 | 06/05/2003
52,071 | Colson Plastics (AR) | Monette, AR | 06/18/2003 | 06/16/2003
52,072 | Colson Caster Corp. (AR) | Jonesboro, AR | 06/18/2003 | 06/16/2003
52,073 | Amerigon Incorporated (Comp) | Irwindale, CA | 06/18/2003 | 06/04/2003
52,074 | Wellmade Industries, Inc. (Comp) | New York, NY | 06/18/2003 | 06/05/2003
52,075 | Prescolite, Inc. (AR) | El Dorado, AR | 06/18/2003 | 06/16/2003
52,076 | Sandicast, Inc. (Comp) | San Diego, CA | 06/18/2003 | 06/10/2003
52,077 | H and H Sewing (Wkrs) | Blaine, MN | 06/18/2003 | 06/01/2003
52,078 | Plastene Supply Co (Wkrs) | Portageville, MO | 06/18/2003 | 04/03/2003
52,079 | Photocircuits Corporation (Wkrs) | Glen Cove, NY | 06/18/2003 | 06/09/2003
52,080 | MJJ Brilliant, Inc. (Wkrs) | New York, NY | 06/18/2003 | 06/02/2003
52,081 | Flex-N-Gate (Wkrs) | Ada, OK | 06/18/2003 | 06/02/2003
52,082 | Pratt and Whitney (Wkrs) | W. Palm Beach, FL | 06/18/2003 | 06/09/2003
52,083 | Sweet Orr (UNITE) | Madison, GA | 06/18/2003 | 05/29/2003
52,084 | Lord Corp. (Comp) | Erie, PA | 06/18/2003 | 05/09/2003
52,085 | Motorola, Inc. (Comp) | San Diego, CA | 06/18/2003 | 06/05/2003
52,086 | Stream International (Comp) | Farmers Branch, TX | 06/19/2003 | 04/30/2003
52,087 | Advantek (MN) | Minnetonka, MN | 06/19/2003 | 06/12/2003
52,088 | Avondale Mills, Inc. (Comp) | Alexander City, AL | 06/19/2003 | 06/13/2003
52,089 | Dixie Industrial Coatings (Comp) | Chattanooga, TN | 06/19/2003 | 06/09/2003
52,090 | Conn-Selmer (UAW) | Elkhart, IN | 06/19/2003 | 06/18/2003
52,091 | Precision Dynamics Corp. (Comp) | Belleville, KS | 06/19/2003 | 05/23/2003
52,092 | General Mills (Wkrs) | Eden Prairie, MN | 06/19/2003 | 05/28/2003
52,093 | Mendocino Forest Products (Wkrs) | Fort Bragg, CA | 06/19/2003 | 06/16/2003
52,094 | Anemostat (Wkrs) | Scranton, PA | 06/19/2003 | 06/17/2003
52,095 | Honeywell (Comp) | Mars Hill, NC | 06/19/2003 | 06/18/2003
52,096 | Archer Daniels Midland (UFCW) | Decatur, IL | 06/19/2003 | 06/18/2003
52,097 | Symantec (Wkrs) | Springfield, OR | 06/19/2003 | 06/18/2003
52,098 | F/V Secure (Comp) | Bow, WA | 06/20/2003 | 06/19/2003
52,099 | Sony Semiconductor (Comp) | San Antonio, TX | 06/20/2003 | 06/18/2003
52,100 | Magneti Macelli (Wkrs) | Kingsport, TN | 06/20/2003 | 06/19/2003
52,101 | Pearl Baths, Inc. (MN) | Brooklyn Park, MN | 06/20/2003 | 06/19/2003
52,102 | Western Textile Products (Comp) | Memphis, TN | 06/20/2003 | 06/12/2003
52,103 | MR Dowel, Inc. (Wkrs) | Rumford, ME | 06/20/2003 | 06/18/2003
52,104 | Sanmina—SCI (Comp) | Augusta, ME | 06/20/2003 | 06/19/2003
52,105 | Johnson Hosiery Mills, Inc. (Wkrs) | Hickory, NC | 06/20/2003 | 06/19/2003
52,106 | BMI Holdings, Inc. (Comp) | Paterson, NJ | 06/20/2003 | 06/18/2003
52,107 | Phillips Plastics Corporation (Comp) | Hudson, WI | 06/20/2003 | 06/19/2003
52,108 | Custom Screens, Inc. (Comp) | Stoneville, NC | 06/20/2003 | 06/17/2003
52,109 | 1888 Mills (Wkrs) | Thomaston, GA | 06/20/2003 | 06/11/2003
52,110 | Pikeville Apparel Manufacturing, Inc. (Comp) | Pikeville, TN | 06/20/2003 | 06/17/2003

[FR Doc. 03-17441 Filed 7-9-03; 8:45 am]

BILLING CODE 4510-30-M